DEPARTMENT OF TRANSPORTATION

Federal Aviation Administration

Notice of Intent To Rule on Application 04-07-C-00-STT To Impose and Use the Revenue From a Passenger Facility Charge (PFC) Cyril E. King Airport, St. Thomas, Virgin Islands

AGENCY: Federal Aviation Administration (FAA), DOT.

ACTION: Notice of intent to rule on application.

SUMMARY: The FAA proposes to rule and invites public comment on the application to impose and use the revenue from a PFC at Cyril E. King Airport under the provisions of the 49 U.S.C. 40117 and part 158 of the Federal Aviation Regulations (14 CFR part 158).

DATES: Comments must be received on or before March 15, 2004.

ADDRESSES: Comments on this application may be mailed or delivered in triplicate to the FAA at the following address: Orlando Airports District Office, 5950 Hazeltine National Drive, Suite 400, Orlando Florida, 32822.

In addition, one copy of any comments submitted to the FAA must be mailed or delivered to Darlin Brin, Executive Director of the Virgin Islands Port Authority at the following address: Cyril E. King Airport, Administration Building, Third Floor, St. Thomas, Virgin Islands 00802.

Air carriers and foreign air carriers may submit copies of written comments previously provided to the Virgin Islands Port Authority under § 158.23 of part 158.

FOR FURTHER INFORMATION CONTACT: Orlando Airports District Office, Susan Moore, Program Manager, 5950 Hazeltine National Drive, Suite 400, Orlando Florida, 32822, (407) 812-6331, Extension 120. The application may be reviewed in person at this same location.

SUPPLEMENTARY INFORMATION: The FAA proposes to rule and invites public comment on the application to impose and use the revenue from a PFC at Cyril E. King Airport under the provisions of the 49 U.S.C. 40117 and Part 158 of the Federal Aviation Regulations (14 CFR part 158).

On February 6, 2004, the FAA determined that the application to impose and use the revenue from a PFC submitted by Virgin Islands Port Authority was substantially complete within the requirements of § 158.25 of part 158. The FAA will approve or disapprove the application, in whole or in part, no later than May 22, 2004.

The following is a brief overview of the application.

Proposed charge effective date: June 1, 2004.

Proposed charge expiration date: April 1, 2008.

Level of the proposed PFC: $3.00.

Total estimated PFC revenue: $8,000,000.

Brief description of proposed projects(s): Expand Federal Inspection/Screening Terminal Area, Expand Passenger and Baggage Claim Terminal Areas, Reimburse Terminal Site Improvements.

Class or classes of air carriers which the public agency has requested not be required to collect PFCs: None.

Any person may inspect the application in person at the FAA office listed above under FOR FURTHER INFORMATION CONTACT and at the FAA regional Airports office located at: 1701 Columbia Avenue, College Park, Georgia 30337. In addition, any person may, upon request, inspect the application, notice and other documents germane to the application in person at the Virgin Islands Port Authority.

Issued in Orlando, Florida, on February 6, 2004.
Bart Vernace,
Acting Manager, Airports District Office, Southern Region.

[FR Doc. 04-3272 Filed 2-12-04; 8:45 am]

BILLING CODE 4910-13-M